DEPARTMENT OF COMMERCE

Foreign-Trade Zones Board

[Docket 24-2000]

Foreign-Trade Zone 9—Honolulu, HI Request for Removal of Board Order Restriction, Pacific Allied Products, Ltd. (Plastic Food/Beverage Containers)

An application has been submitted to the Foreign-Trade Zones Board (the Board) by the Department of Business, Economic Development & Tourism of the State of Hawaii, grantee of FTZ 9, requesting authority, on behalf of Pacific Allied Products, Ltd. (PAP), to extend its authority to manufacture plastic food/beverage containers under FTZ procedures, subject to restriction. It was formally filed on June 2, 2000.

Board Order 735 (60 FR 26715, 5/18/95) authorized the manufacture of plastic food/beverage containers under zone procedures within FTZ 9 solely for the Hawaiian and export markets for a period ending July 1, 2000. The State of Hawaii is now requesting that the manufacturing authority for PAP be extended on a permanent basis. Foreign-sourced components used in PAP's manufacturing include polyethylene terephthalate and high density polyethylene.

FTZ procedures exempt PAP from Customs duty payments on the foreign components used in export production. On its Hawaiian sales, the company is able to choose the duty rate that applies to the plastic containers (3%) for the foreign components noted above (duty rates 1.2¢/kg. + 7.5% and 8.9%, respectively). The request indicates that the savings from FTZ procedures will continue to help improve the facility's international competitiveness. In accordance with the Board's regulations, a member of the FTZ Staff has been designated examiner to investigate the application and report to the Board.

Public comment on the application is invited from interested parties. Submissions (original and three copies) shall be addressed to the Board's Executive Secretary at the address below. The closing period for their receipt is August 11, 2000. Rebuttal comments in response to material submitted during the foregoing period may be submitted during the subsequent 15-day period to August 28, 2000.

A copy of the application will be available for public inspection at the following location:

Office of the Executive Secretary, Foreign-Trade Zones Board, U.S. Department of Commerce, Room 4008, 14th and Pennsylvania Avenue, NW., Washington, DC 20230.

Dated: June 2, 2000.
Dennis Puccinelli,
Acting Executive Secretary.

[FR Doc. 00-14798 Filed 6-9-00; 8:45 am]

BILLING CODE 3510-DS-P